DEPARTMENT OF HEALTH AND HUMAN SERVICES

Administration for Community Living

Statement of Delegation of Authority

Notice is hereby given that I have delegated to the Administrator of the Administration for Community Living the authorities vested in the Secretary of Health and Human Services under the Rehabilitation Act of 1973 as amended in the Workforce Innovation and Opportunity Act (Pub. L. 113-128), to Chair the Interagency Committee on Disability Research for the purposes of promoting the coordination and collaboration of federal disability and rehabilitation research and related activities as stipulated in the ICDR's statutory mission.

This authority may be redelegated to the Director of the National Institute on Disability, Independent Living and Rehabilitation Research. Exercise of this authority shall be in accordance with established policies, procedures, guidelines, and regulations as prescribed by the Secretary. The Secretary retains the authority to submit reports to Congress and promulgate regulations.

This delegation is effective immediately. I hereby affirm and ratify any actions taken by subordinates that involved the exercise of the authorities delegated herein prior to the effective date of the delegation.

Dated: January 10, 2023.
Xavier Becerra,
Secretary.

[FR Doc. 2023-00574 Filed 1-12-23; 8:45 am]

BILLING CODE 4154-01-P